DEPARTMENT OF ENERGY

Federal Energy Regulatory Commission

[Docket No. GT00-25-000]

TransColorado Gas Transmission Company; Notice of Tariff Filing

April 14, 2000.

Take notice that on April 12, 2000, TransColorado Gas Transmission Company (TransColorado) tendered for filing to become part of its FERC Gas Tariff, Original Volume No. 1, the tariff sheets listed to Appendix A to the filing, to be effective May 15, 2000.

TransColorado states that due to a change in the TransColorado partnership, changes have been proposed to modify the reference to the person to whom communications should be addressed regarding TransColorado's tariff and references to a former partner, El Paso TransColorado Company, have been removed. In addition, miscellaneous tariff “clean-up” type revisions have also been made.

TransColorado states that a copy of this filing has been served upon TransColorado's customers, the Colorado Public Utilities Commission and New Mexico Public Regulatory Commission.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-9863 Filed 4-19-00; 8:45 am]

BILLING CODE 6717-01-M